DEPARTMENT OF HOMELAND SECURITY

Coast Guard

33 CFR Part 100

[Docket Number USCG-2024-0899]

RIN 1625-AA08

Special Local Regulation; San Diego and Mission Bay, San Diego, CA

AGENCY: Coast Guard, DHS.

ACTION: Final rule.

SUMMARY: The Coast Guard is amending its special local regulations for recurring marine events in the San Diego Captain of the Port Zone. This final rule will amend the regulations to accurately reflect the dates of existing recurring marine events in the Sector San Diego area of responsibility (AOR).

DATES: This rule is effective July 9, 2025.

ADDRESSES: To view documents mentioned in this preamble as being available in the docket, go to https://www.regulations.gov, type USCG-2024-0899 in the search box and click “Search.” Next, in the Document Type column, select “Supporting & Related Material.”

FOR FURTHER INFORMATION CONTACT: If you have questions about this proposed rulemaking, call or email Lieutenant Shelley Turner, Waterways Management, U.S. Coast Guard; telephone 619-278-7656, email MarineEventsSD@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Captain of the Port Sector San Diego (COTP) determined that the table of recurring special local regulations for marine events, found in Table 1 to 33 CFR 100.1101, did not accurately reflect the effective period of enforcement for three special local regulations listed in the table. This rule will ensure that the table reflects the most current information regarding recurring marine events in the Sector San Diego AOR.

In response, on April 4, 2025, the Coast Guard published a notice of proposed rulemaking (NPRM) titled Special Local Regulation; San Diego and Mission Bay, San Diego, CA (90 FR 14739). There we stated why we issued the NPRM and invited comments on our proposed regulatory action related to this fireworks display. During the comment period that ended May 5, 2025, we received no comments.

III. Legal Authority and Need for Rule

The Coast Guard is issuing this rule under the authority in 46 U.S.C. 70041. The COTP has determined that the recurring marine events found in Table 1 to 33 CFR 100.1101 present a safety concern on navigable waters. The purpose of this rule is to ensure safety of life on the navigable waters in the safety zone before, during, and after the scheduled events.

IV. Discussion of Comments, Changes, and the Rule

As noted above, we received no comments on our NPRM published April 4, 2025. There are no changes in the regulatory text of this rule from the proposed rule in the NPRM.

This rule will make the following changes in Table 1 to 33 CFR 100.1101:

1. Changing the date of Item 3 (San Diego Crew Classic) to “a weekend in March or April.”

2. Changing the date of Item 7 (San Diego Sharkfest Swim) to “a weekend in September or October.”

3. Changing the date of Item 17 (San Diego Fleet Week Veterans Day Boat Parade) to “one day in November on or around Veterans Day.”

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action,” under section 3(f) of Executive Order 12866. Accordingly, OMB has not reviewed it.

This regulatory action determination is based on the size, location, duration and time of day of the regulated area. These areas are limited in size and duration and typically have minimal impact to vessel traffic on the navigable waterway. In addition, the Coast Guard provides advance notice of the regulated areas via Local Notice to Mariners and Broadcast Notice to Mariners. The rule would allow vessels to seek permission to enter the regulated area.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves revising existing regulations for recurring marine events in the Sector San Diego AOR. It is categorically excluded from further review under paragraph L61 of Appendix A, Table 1 of DHS Instruction Manual 023-01-001-01, Rev. 1. A Memorandum for the Record supporting this determination is available in the docket. For instructions on locating the docket, see the ADDRESSES section of this preamble.

List of Subjects in 33 CFR Part 100

Marine safety, Navigation (water), Reporting and recordkeeping requirements, Waterways.

For the reasons discussed in the preamble, the Coast Guard is amending 33 CFR part 100 as follows:

PART 100—SAFETY OF LIFE ON NAVIGABLE WATERS

1. The authority citation for part 100 continues to read as follows:

Authority: 46 U.S.C. 70041; 33 CFR 1.05-1.

2. In § 100.1101, amend Table 1 to § 100.1101, by revising items 3, 7, and 17, to read as follows:

§ 100.1101 Southern California Annual Marine Events for the San Diego Captain of the Port Zone.

* * * * *

Table 1 to § 100.1101
[All coordinates referenced use datum NAD 83]
* * * * * * *
3. San Diego Crew Classic
Sponsor | San Diego Crew Classic.
Event Description | Competitive rowing race.
Date | A weekend in March or April.
Location | Mission Bay, San Diego, CA.
Regulated Area | The waters of Mission Bay to include South Pacific Passage, Fiesta Bay, and the waters around Vacation Isle.
* * * * * * *
7. San Diego Sharkfest Swim
Sponsor | Enviro-Sports Productions Inc.
Event Description | Swim race.
Date | A weekend in September or October.
Location | San Diego Bay, CA.
Regulated Area | The waters of San Diego Bay, CA, from Seaport Village to Coronado Ferry Landing.
* * * * * * *
17. San Diego Fleet Week Veterans Day Boat Parade
Sponsor | San Diego Fleet Week Foundation.
Event Description | SS Boat parade.
Date | One day in November on or around Veterans Day.
Location | San Diego Bay, CA.
Regulated Area | All waters of San Diego Bay, from surface to bottom, beginning at Shelter Island, proceeding northeast to Harbor Island, proceeding southeast along the shoreline to Tenth Avenue Marine Terminal, crossing the Federal navigable channel prior to the Coronado Bridge, then northwest along the shoreline of Coronado Island to the Coronado Ferry Landing.

P.C. Dill,
Captain, U.S. Coast Guard, Captain of the Port Sector San Diego.

[FR Doc. 2025-10385 Filed 6-6-25; 8:45 am]

BILLING CODE 9110-04-P